DEPARTMENT OF STATE

[Public Notice 4847]

Privacy Act of 1974 Amendment of Prefatory Statement of Routine Uses to Department of State Privacy Act Issuances

Summary: Notice is hereby given that the Department of State proposes to amend the Prefatory Statement of Routine Uses to Department of State Privacy Act Issuances, pursuant to the provisions of the Privacy Act of 1974, as amended (5 U.S.C. 552a (r)), and the Office of Management and Budget Circular No. A-130, Appendix I. The Department's report was filed with the Office of Management and Budget on September 10, 2004.

It is proposed that the amended Prefatory Statement notify individuals of two additional routine uses of Privacy Act information. The first amendment is proposed in accordance with Homeland Security Presidential Directive 6 (HSPD-6) and is necessary to support the U.S. Government's efforts to protect against acts of terrorism. The second amendment authorizes disclosure of records to the Department of Justice for the purpose of representing the Department of State, or any of its officers or employees, in actual or potential litigation.

Any persons interested in commenting on these amendments to the Prefatory Statement of routine uses to Department of State Privacy Act Issuances may do so by submitting comments in writing to Margaret P. Grafeld, Director; Office of Information Programs and Services; A/RPS/IPS; U.S. Department of State, SA-2; Washington, DC 20522-6001.

These amendments to the Prefatory Statement of Routine Uses to Department of State Privacy Act Issuances will be effective 40 days from the date of publication, unless we receive comments that result in a contrary determination.

These amendments will read as set forth below.

Dated: September 9, 2004.
William Eaton,
Assistant Secretary for the Bureau of Administration, Department of State.

Department of State

Prefatory Statement of Routine Uses

The following routine uses apply to, and are incorporated by reference into, each system of records set forth below:

Law Enforcement

In the event that a system of records maintained by this agency to carry out its functions indicates a violation or potential violation of law, whether civil, criminal or regulatory in nature, and whether arising by general statute or particular program statute, or by regulation, rule or order issued pursuant thereto, the relevant records in the system of records may be referred, as a routine use, to the appropriate agency, whether federal, state, local or foreign, charged with the responsibility of investigating or prosecuting such violation or charged with enforcing or implementing the statute, or rule, regulation or order issued pursuant thereto.

Routine Use Amendment 1

Terrorism and Homeland Security

A record from the Department's systems of records may be disclosed to the Federal Bureau of Investigation, the Terrorist Threat Integration Center (TTIC), or the Terrorist Screening Center (TSC), and other federal agencies (such as the Department of Homeland Security), for the integration and use of such information to protect against terrorism, if that record is about one or more individuals known, or suspected, to be or to have been involved in activities constituting, in preparation for, in aid of, or related to terrorism. Such information may be further disseminated by FBI, TTIC or TSC, and the agencies participating therein, to Federal, State, local, territorial, tribal, and foreign government authorities, and to support private sector processes as contemplated in Homeland Security Presidential Directive/HSPD-6 and other relevant laws and directives, for terrorist screening, threat-protection and other homeland security purposes.

Disclosure When Requesting Information

A record from this system of records may be disclosed as a “routine use” to a federal, state or local agency maintaining civil, criminal or other relevant enforcement information or other pertinent information, such as current licenses, if necessary to obtain information relevant to an agency decision concerning the hiring or retention of an employee, the issuance of a security clearance, the letting of a contract, or the issuance of a license, grant or other benefit.

Disclosure of Requested Information

A record from this system of records may be disclosed to a federal agency, in response to its request, in connection with the hiring or retention of an employee, the issuance of a security clearance, the reporting of an investigation of an employee, the letting of a contract, or the issuance of a license, grant, or other benefit by the requesting agency, to the extent that the information is relevant and necessary to the requesting agency's decision on the matter. A record from this system of records may be disclosed to a federal, state, local or foreign agency as a routine use response to such an agency's request, where there is reason to believe that an individual has violated the law, whether civil, criminal or regulatory in nature, and whether arising by general statute or particular program statute, or by regulation, rule or order issued pursuant thereto, if necessary, and only to the extent necessary, to enable such agency to discharge its responsibilities of investigating or prosecuting such violation or its responsibilities with enforcing or implementing the statute, or rule, regulation or order issued pursuant thereto. A record from this system of records may be disclosed to a foreign agency as a routine response to such an agency's request when the information is necessary for the foreign agency to adjudicate and determine an individual's entitlement to rights and benefits, or obligations owed to the foreign agency, such as information necessary to establish identity or nationality.

Office of Management and Budget

The information contained in this system of records will be disclosed to the Office of Management and Budget in connection with review of private relief legislation, as set forth in OMB Circular No. A-19, at any stage of the legislative coordination and clearance process as set forth in that Circular.

Members of Congress

Disclosure may be made to a congressional office from the record of an individual in response to an inquiry from the Congressional office made at the request of that individual. Contractor information from a system of records may be disclosed to anyone who is under contract to the Department of State to fulfill an agency function but only to the extent necessary to fulfill that function. Courts information from a system of records may be made available to any court of competent jurisdiction, whether Federal, state, local or foreign, when necessary for the litigation and adjudication of a case involving an individual who is the subject of a Departmental record.

National Archives, Government Services Administration

A record from a system of records may be disclosed as a routine use to the National Archives and Records Administration and the General Services Administration: for records management inspections, surveys and studies; following transfer to a Federal records center for storage; and to determine whether such records have sufficient historical or other value to warrant accessioning into the National Archives of the United States.

Routine Use Amendment 2

Department of Justice

A record may be disclosed as a routine use to any component of the Department of Justice, including United States Attorneys, for the purpose of representing the Department of State or any officer or employee of the Department of State in pending or potential litigation to which the record is pertinent.

[FR Doc. 04-21999 Filed 9-29-04; 8:45 am]

BILLING CODE 4710-24-P